DEPARTMENT OF LABOR

Employment and Training Administration

[TA-W-39, 637]

International Garment Processors, El Paso, TX; Notice of Termination of Investigation

Pursuant to section 221 of the Trade Act of 1974, an investigation was initiated on July 16, 2001, in response to a petition filed by workers on behalf of all workers at International Garment Processors, El Paso, Texas.

The petition group of workers is under an existing certification for which a determination was issued on June 29, 2001 (TA-W-39, 196) for J.C. Viramontes, Inc., d/b/a International Garment Processors, El Paso, Texas. Consequently, further investigation int his case would serve no purpose, further investigation in this case would serve no purpose, and the investigation has been terminated.

Signed in Washington, DC this 2nd day of August, 2001.
Linda G. Poole,
Certifying Officer, Division of Trade Adjustment Assistance.

[FR Doc. 01-20549 Filed 8-14-01; 8:45 am]

BILLING CODE 4510-30-M